POSTAL SERVICE

39 CFR Part 111

New Preparation Requirements for Bundles of Mail on Pallets

AGENCY: Postal Service.

ACTION: Final rule.

SUMMARY: This final rule changes preparation requirements for bundles of Periodicals, Standard Mail, and Package Services flat-size mail or irregular parcels on pallets. The rule gives the conditions under which mailers must prepare an area distribution center, bulk mail center/auxiliary service facility, or sectional center facility pallet with 250 or more pounds of bundles.

DATES: Effective Date: May 11, 2006.

FOR FURTHER INFORMATION CONTACT: Julia Carroll, 202-268-2108.

SUPPLEMENTARY INFORMATION: On September 30, 2005, the Postal Service™ published for comment in the Federal Register (70 FR 57237) a proposal to change preparation requirements for bundles of mail on pallets.

Bundles of flat-size mailpieces or irregular parcels on pallets are easier and less costly for us to handle than bundles in sacks. In addition, bundles on pallets maintain their integrity to a greater degree than bundles in sacks. Our new standards will help increase the volume of mail on pallets by revising the requirements for pallet preparation.

Mailing Standards of the United States Postal Service, Domestic Mail Manual (DMM®) 705.8.5.2 requires mailers who prepare bundles of flat-size mail or bundles of irregular parcels on pallets to prepare a pallet to a required sortation level if a mailing contains 500 or more pounds of bundles.

Under this final rule, after preparing all other pallets at the 500-pound required minimum, if there are 250 or more pounds of bundles labeled to destinations within the ZIP Code range for an area distribution center (ADC), a mailer who prepares bundles of Periodicals flat-size mail or irregular parcels on pallets must prepare the ADC pallet. If there are 250 or more pounds of bundles labeled to destinations within the ZIP Code range for a bulk mail center/auxiliary service facility (BMC/ASF), a mailer who prepares bundles of Standard Mail and Package Services flat-size mail or irregular parcels on pallets must prepare the BMC/ASF pallet. If a mailing does not contain any ADC or BMC/ASF pallets and there are 250 or more pounds for an SCF, the mailer must prepare the SCF pallet.

In addition to these changes, we are removing text in 705.8.5.2 about labeling pallets and optional bundle reallocation, because we cover these topics in detail elsewhere in the DMM.

Comments Received

We requested comments on the proposal by October 31, 2005. We received two comments, one from a publisher and one from a mailing association. Both supported the proposal.

For the reasons discussed above, the Postal Service adopts the following amendments to Mailing Standards of the United States Postal Service, Domestic Mail Manual (DMM), incorporated by reference in the Code of Federal Regulations. See 39 CFR 111.1.

List of Subjects in 39 CFR Part 111

Administrative practice and procedure, Postal Service.

PART 111—[AMENDED]

1. The authority citation for 39 CFR Part 111 continues to read as follows:

Authority: 5 U.S.C. 552(a); 39 U.S.C. 101, 401, 403, 414, 416, 3001-3011, 3201-3219, 3403-3406, 3621, 3626, 5001.

2. Revise the following sections of Mailing Standards of the United States Postal Service, Domestic Mail Manual (DMM), as follows:

700 Special Standards

* * * * *

705 Advanced Preparation and Special Postage Payment Systems

* * * * *

8.0 Preparation for Pallets

* * * * *

8.5 General Preparation

* * * * *

8.5.2 Required Preparation

[Revise 8.5.2 to require ADC, BMC/ASF, or SCF pallets at 250 pounds of bundles, as follows:]

The following standards apply to Periodicals, Standard Mail, and Package Services, except Parcel Post mailed at BMC Presort, OBMC Presort, DSCF, and DDU rates.

a. Mailers must prepare a pallet to the required sortation level(s) for the class of mail when a mailing contains 500 or more pounds of bundles, sacks, or parcels or 72 linear feet or six layers of letter trays for the destination.

b. For bundles of flat-size mailpieces or bundles of irregular parcels on pallets, after preparing all possible pallets under 8.5.2a, when 250 or more pounds of bundles remain for an ADC (Periodicals) or for a BMC/ASF (Standard Mail and Package Services), mailers must prepare the ADC or BMC/ASF pallet, as applicable for the class of mail. Exception: If there are no ADC or BMC/ASF pallets in a mailing and 250 or more pounds remain for an SCF, mailers must prepare the SCF pallet.

c. If bundles remain that cannot be prepared on an ADC, BMC/ASF, or SCF pallet, mailers must place those bundles in sacks (8.9.1).

* * * * *

Neva R. Watson,
Attorney, Legislative.

[FR Doc. 05-24209 Filed 12-20-05; 8:45 am]

BILLING CODE 7710-12-P